DEPARTMENT OF ENERGY

Federal Energy Regulatory Commission

[Docket Nos. CP03-75-006 and CP05-361-004]

Freeport LNG Development, L.P.; Freeport LNG Expansion, L.P.; Notice of Filing

August 12, 2009.

Take notice that on August 3, 2009, Freeport LNG Development, L.P. and Freeport LNG Expansion, L.P. (Freeport LNG), 333 Clay Street, Suite 5050, Houston, TX 77002, filed an application, pursuant to section 3(a) of the Natural Gas Act (NGA) and parts 153 and 380 of the Commission's Rules and Regulations, for a limited amendment to its certificates issued on June 18, 2004 and September 26, 2006 in Docket Nos. CP03-75-000 and CP05-361-000, respectively. Freeport LNG requests authorization to construct and operate a natural gas liquids (NGL) extraction system at the Quintana Island terminal. The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

The NGL extraction system will enable Freeport LNG to extract and recover NGLs (primarily ethane, propane, and butane) from the terminal's LNG throughput. The NGL extraction system involve the construction and operation of the following facilities (i) two 400 MMcf/day NGL extraction trains, collectively providing 0.80 Bcf/day of NGL extraction capability; (ii) a 60,000 barrels per day depropanizer, (iii) associated non-modular equipment; (iv) two co-located NGL plant pipelines (8-inch and 12-inch diameter); and (v) and NGL delivery pipeline and associated metering, pigging and valve facilities. The proposed facilities will be constructed within the authorized operational area of the Quintana Island terminal. Freeport LNG proposes a service date of June 2011.

Any questions regarding the application are to be directed to Michael Johns, Freeport LNG Development, L.P., 333 Clay Street, Suite 5050, Houston, TX 77002; phone number (979) 415-8720 or Lisa M. Tonery, Fulbright & Jaworski L.L.P., 666 Fifth Avenue, New York, NY 10103; phone number (212) 318-3009, ltonery@fulbright.com.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001(a)(1)(iii) and the instructions on the Commission's Web site under the “e-Filing” link. The Commission strongly encourages electronic filings.

Comment Date: September 2, 2009.

Kimberly D. Bose,
Secretary.

[FR Doc. E9-19830 Filed 8-18-09; 8:45 am]

BILLING CODE 6717-01-P